DEPARTMENT OF JUSTICE

Antitrust Division

United States v. Premdor Inc. et al.

A Complaint, Hold Separate Stipulation and Order, proposed Final Judgment, and Competitive Impact Statement were filed with the United States District Court for the District of Columbia, in a civil antitrust case, United States v. Premdor Inc., Premdor U.S. Holdings, Inc., International Paper Company, and Masonite Corporation, Civ. Action No. 1:01CV01696. By August 28, 2001, the United States published a notice in the Washington Post and the Federal Register, seeking public comments on the proposed settlement, in accord with the Antitrust Procedures and Penalties Act, 15 U.S.C. 16(b) through (h). The 60 day comment period expired on October 29, 2001. Due to the unanticipated disruption of mail service to the U.S. Department of Justice, the United States requests that anyone who submitted a comment before the expiration of the comment period resubmit the comment by facsimile or e-mail to J. Robert Kramer II, Chief, Litigation II Section, Antitrust Division, U.S. Department of Justice, 1401 H Street, NW., Suite 3000, Washington, DC 20530 (facsimile: (202) 307-5802; e-mail: comments.lit2@usdoj.gov; telephone: (202) 307-0924). Comments should be resubmitted by facsimile or e-mail within 15 days of the date of this notice.

Constance K. Robinson,
Director of Operations & Merger Enforcement.

[FR Doc. 01-31477 Filed 12-20-01; 8:45 am]

BILLING CODE 4410-11-M